DEPARTMENT OF EDUCATION

34 CFR Part 602

[Docket ID: ED-2026-OPE-0067]

Clarification of the Appropriate Use of Terms “National” and “Regional” by Recognized Accrediting Agencies

AGENCY: Office of Postsecondary Education, Department of Education.

ACTION: Proposed interpretive rule.

SUMMARY: The U.S. Department of Education (Department) proposes to issue this interpretive rule to revise and clarify its prior interpretation of its position on the use of descriptive terms by Department-recognized accrediting agencies, specifically, the use of “regional” and “national.” The Department proposes this interpretive rule to interpret Section 496 of the Higher Education Act of 1965, as amended (HEA), and the general duty of accrediting agencies to not make false statements and misrepresentations. Institutions of higher education also are required to ensure that they do not misrepresent their accreditation status to students and the public.

DATES: We must receive your comments by March 19, 2026.

ADDRESSES: Submit your comments through the Federal eRulemaking Portal at www.regulations.gov. The Department will not accept comments submitted by fax or email or comments submitted after the comment period closes. To ensure that the Department does not receive duplicate copies, please submit your comment only once. Additionally, please include the Docket ID at the top of your comments.

Information on using Regulations.gov, including instructions for submitting comments, is available on the site under “FAQ”. If you require an accommodation or cannot otherwise submit your comments via Regulations.gov, please contact regulationshelpdesk@gsa.gov or by phone at 1-866-498-2945. If you are deaf, hard of hearing, or have a speech disability and wish to access telecommunications relay services, please dial 7-1-1.

FOR FURTHER INFORMATION CONTACT: Elizabeth Daggett, Director of the Accreditation Group. Office of Postsecondary Education, U.S. Department of Education, 400 Maryland Avenue SW, Washington, DC 20202. Email: elizabeth.daggett@ed.gov.

If you use a telecommunications device for the deaf (TDD) or a text telephone (TTY), call the Federal Relay Service (FRS), toll free, at 1-800-877-8339.

SUPPLEMENTARY INFORMATION: The Department seeks to clarify the appropriate use of the terms “regional” and “national” by an accrediting agency recognized by the Department when describing an accrediting agency's area of operation or recognition scope. This interpretive rule seeks to update and clarify the Department's position on the use of such nomenclature by accrediting agencies when describing their area of operation or recognition, as well as by higher education institutions, State licensure boards, and other stakeholders, when referencing accrediting agencies, as stated in the Student Assistance General Provisions, The Secretary's Recognition of Accrediting Agencies, and The Secretary's Recognition Procedures for State Agencies Final Rule (“Final Rule”) published on November 1, 2019. 84 FR 58834.

The Final Rule took effect on July 1, 2020, ending the Department's recognition of accrediting agencies as “regional.” Nevertheless, many accrediting agencies and institutions of higher education continue to use the term “regional” in their standards, marketing materials, and other representative texts.¹ As a result, the Department has a general interest in ensuring that accrediting agencies recognized by the Secretary, and institutions of higher education, do not make false statements and misrepresentations. The Department does not recognize accrediting agencies as “regional” accreditors, and the Department believes that these representations mislead the public, institutions of higher education, and students. Continued assertions that an institution is “regionally” accredited may send false signals to students and the public that an institution's accreditation is of a higher quality than institutions that are accredited by accrediting agencies that are nationally recognized. Indeed, when institutions properly refer to their accreditation as being from a nationally recognized accredited agency, while other institutions continue to use the “regional” nomenclature, it may send false signals to students or the public that the institution lost its accreditation from a “regional accreditor” or that it now has a lesser accreditation status.

¹ The Department is concerned about transfer of credit policies maintained by institutions that have maintained the improper use of the term “regional” and only accept credit transfer from “regionally” accredited institutions to the detriment of their students. See Transfer Credit Policies, University of Washington, https://admit.washington.edu/apply/transfer/policies. (Last accessed January 25, 2026).

Accrediting agencies decide where to conduct their activities and may decide to conduct activities in a State, a region or group of States, or the United States. But limiting the representation of the scope of their recognition to less than the United States does not mean that the Department recognizes the accrediting agency as a “regional” accrediting agency. The Department believes that, under the HEA, the terms “national,” “institutional,” or “programmatic” are the only appropriate terms an accrediting agency should use to describe their scope of recognition under the authorizing statute.

I. Background and Purpose

On November 1, 2019, the Department published a Final Rule on Student Assistance General Provisions, The Secretary's Recognition of Accrediting Agencies, and The Secretary's Recognition Procedures for State Agencies. 84 FR 58834. This Final Rule sought, among other things, to amend the Department's recognition process for accrediting agencies, including providing an accurate recognition of the geographic area within which an agency conducts its activities. The Final Rule also recognized that the term “regional” often inaccurately described an accrediting agency's geographic scope and was frequently used to perpetuate the misconception that regionally accredited institutions are of higher academic quality than nationally accredited institutions. In the preamble to the Final Rule, the Department responded to several comments seeking clarification of the use of the terms “national” and “regional” with respect to accrediting agencies.

In the Notice of Proposed Rulemaking (“Proposed Rule,”) the Department proposed to eliminate the use of “regional” in reference to accrediting agencies and instead refer to non-programmatic agencies or associations exclusively as “institutional” or “nationally” recognized, outlining several reasons to substantiate the Department's belief that this regulatory change was necessary. Secretary's Recognition of Accrediting Agencies, 84 FR 27404 (proposed June 12, 2019). The Department explained, in response to comments, that the clarification was made to correct pervasive and consequential misunderstandings in regard to the quality of education and to attempt to provide students and families accurate information on both the educational quality and integrity of programs that require State licensure. First, the Department stated that the lack of clarity with regard to—and sometimes conflation of—“national” versus “regional” leads to a misguided understanding of the quality of education that an institution recognized by a “national” accrediting agency offers in comparison to the education provided by an institution recognized by a “regional” accrediting agency.

Specifically, in response to a commenter's objection to the change in nomenclature, the Department stated that “the change in nomenclature is intended specifically to counter this prevalent misconception.” 84 FR 58850. The Department noted that although agencies may term themselves differently, a “national” or “regional” accrediting agency does not, in fact, impact the standards or quality of education at an institution, as accrediting agencies do not evaluate education at an institution differently based on the geographic region in which an institution is located. The Department has not, and does not, hold these accrediting agencies to different recognition criteria standards. See generally 34 CFR part 602. The Department stated that, although accrediting agencies have their own standards that vary by type of institution, location, or other factors, “standards do not differ based on the agency's geographic scope or prior classification as a national or regional accrediting agency.” 84 FR 58850.

Further, as the Department elaborated, the change laid out in the Final Rule was intended to “counter a detrimental myth that institutions that are regionally accredited are of higher academic quality than institutions that are nationally accredited.” 84 FR 58851. The Department indicated that students understood their education to be fundamentally better at a regionally accredited institution versus a nationally accredited institution, which, based on the Department's observations, was in fact, not the case. In the Final Rule, the Department speculated that a borrower could have attended an inferior school based solely on a presumption of quality based on an accrediting agency's representation regarding their geographic scope or through a presumption based on the agency terming itself as “regional.” 84 FR 58851.

The Department also expressed concerns, in response to comments, regarding the rise in distance education and how distinctions between “regional” and “national” accrediting agencies could impact student choice and options. Specifically, the Department stated this change was “critically important” based on increases in distance education, leading “students to attend an institution accredited by an agency whose geographic scope does not include the student's home State.” 84 FR 58851. The Department made clear that States should “ensure the laws pertaining to an academic institution's required accreditation to qualify graduates for licensure and the procedures used to implement those laws do not disadvantage students who enroll in and complete programs at institutionally accredited institutions.” 84 FR 58850.

Further, in response to comments, the Department acknowledged that concerns and confusion regarding accrediting agencies' geographic scope and practices were justified, given that former regional accrediting agencies had expanded their activities beyond the initial geographic region(s) defined in their scope. They acknowledged that “accrediting agencies previously described as regional are, in fact, conducting business across much of the country.” 84. FR 58851.

Although the Department sought to eliminate the use of the term “regional” as a defining characteristic, it continued to require accrediting agencies to clarify the geographic area in which they perform their work, including all branch campuses and additional locations. However, the Department would no longer consider the accrediting agency's historical geographic footprint to be a part of its scope. 84 FR 58852. Instead, the geographic area (i.e., list of States) in which the accrediting agency performs its work must be reported to the Department and made available to the public. 84 FR 58852.

Although the regulatory text in the Final Rule addressed the use of “regional” nomenclature, the preamble did not address whether such references could be contrary to the law. In the Proposed Rule, the Department noted its intent to simplify labeling accrediting agencies to better reflect their focus and combine them under the umbrella term of “institutional.” The Department also noted that while the use of the terms “regionally accredited” and “nationally accredited” were no longer relevant to the recognition process “agencies would not be prohibited from identifying themselves as they deem appropriate.” Proposed Rule, at 27445.

Though the Department may have intended to provide an interpretation of the language contained within their proposed regulations, there was no explanation or statement like this in the preamble to the Final Rule. Courts have held that statements made in the preamble to a final rule are considered nonbinding interpretative rules. See Wilgar Land Co. v. U.S. Dep't of Lab., 85 F.4th 828, 837 (6th Cir. 2023) (holding that “[w]hile a preamble's interpretation of regulations may help clarify any ambiguity in them, an agency cannot use preambles to add substantive duties that the regulations themselves do not contain.”) However, the statements made here were in the proposed rule and therefore should not have been reasonably relied upon by third-parties as those statements are, at best, proposed interpretive rules.

Accrediting agencies may have, nonetheless, incorrectly relied upon this isolated statement within the proposed rule to inform the means by which they identify themselves. And likewise, institutions may have relied upon the statement to inform how they refer to the status of their accreditation when communicating with students and the public. Therefore, even though formal recission may not be necessary, the Department finds that it is possible that accrediting agencies and institutions may have relied upon those statements in the proposed rule. As such, this proposed interpretative rule would formally rescind the statement in the proposed rule to the preamble that stated that accrediting “agencies would not be prohibited from identifying themselves as they deem appropriate,” including as “regional” accreditors. Id. at 27445.

Accordingly, even though it may not be strictly necessary, out of an abundance of caution, the Department will abide by the change-in-position doctrine factors that dictate how agencies may change their guidance. Food & Drug Admin. v. Wages & White Lion Invs., L.L.C., 604 U.S. 542, 568 (2025) (Holding that agencies must “provide a reasoned explanation for the change, display awareness that they are changing position, and consider serious reliance interests.”)

Furthermore, the Department proposes to reinforce, reemphasize, and strengthen the Final Rule through this interpretative rule to clarify that “regional” is no longer a proper definitional term for accrediting agencies and that use of “national” or “institutional” (for non-programmatic accrediting agencies) are the sole descriptors allowed under the HEA. Accordingly, accrediting agencies have an obligation to ensure that their member institutions do not mischaracterize the scope of a non-programmatic accrediting agency as anything other than “national” or “institutional,” including with respect to institutional transfer of credit policies.

Formal institutional policies should not rely on the way the Department formerly recognized accrediting agencies. Doing so would also attach legal or policy significance to past Department actions that have no bearing on the recognition of accrediting agencies today. Allowing institutions to base their policies on the former accreditation recognition structure exacerbates the concerns the Department raised as its reason for promulgating the Final Rule, as it perpetuates the false belief that institutions that are “regionally” accredited are of a higher quality than those that are “nationally” accredited. For example, establishing a criterion for the acceptance of transfer credit that requires the credit to have been earned at an institution that is accredited by an accrediting agency that was formerly recognized as a “regional” accrediting agency would contravene how the Department recognizes accrediting agencies.

As the Department explained in the Final Rule, although it lacks authority to compel State action, the Department eliminated from its regulations the distinction between regional and institutional accreditation. States could continue to have policies or laws that attach significance to accreditation from an agency that was formerly recognized as “regional,” but any State policy that hinges upon current recognition of an accrediting agency as “regional” is obsolete. Indeed, there are no institutions that are or could be accredited by a regional accrediting agency recognized by the Secretary, so it would be impossible for an institution to comply with a State law or policy that requires regional accreditation.

In this proposed interpretive rule, the Department further clarifies that recognized accrediting agencies and associations, and their member institutions, should no longer refer to a recognized accrediting agency as “regional.” Accordingly, the Department strongly encourages States, including State licensure boards, to revise their laws or regulations, as necessary, to remove this distinction.

II. Analysis

For the reasons outlined above, in 2019, the Department sought to align its nomenclature more closely with the HEA by referring to all of the accrediting agencies it recognizes as “nationally recognized,” consistent with the definition of institution of higher education under Section 101 and Section 102 of the HEA.

To be eligible as an institution for purposes of participation in title IV, HEA programs, institutions must meet the definition of “institution of higher education.” Sections 101 and 102 of the HEA. This includes the requirement that an institution of higher education “is accredited by a nationally recognized accrediting agency or association.” 20 U.S.C. 1001(a)(5) (emphasis added). The definition in Section 101, which covers nonprofit and public institutions, refers to a “nationally recognized accrediting agency.” As such, the Final Rule updated 34 CFR 602.11 to conform to this requirement, and all accrediting agencies that are recognized by the Secretary are designated as “nationally recognized accrediting agencies.”

The HEA also provides for circumstances in which a school may qualify as a “proprietary institution of higher education” in order to gain eligibility for the purposes of participation in the title IV programs. Section 102(b)(1)(A) of the HEA creates a special requirement for such institutions, which states that a proprietary institution must provide training programs to prepare students for gainful employment in a recognized occupation unless the institution “(I) provides a program leading to a baccalaureate degree in liberal arts, and has provided such a program since January 1, 2009, and (II) is accredited by a recognized regional accrediting agency or association, and has continuously held such accreditation since October 1, 2007, or earlier.” 20 U.S.C. 1002(b)(1)(A). The broader context of this provision makes it clear that Congress was attempting to prohibit proprietary institutions from offering liberal arts programs but sought to grandfather programs that were established prior to a certain date and were recognized by accrediting agencies that the Department recognized, at the time, as being regional accrediting agencies. Although this provision may imply that Congress wanted to, and the Department should, recognize “regional” as an appropriate term for institutional accrediting agencies, as discussed further, it represents a specific moment in time for which Congress provided a specific and limited exception related only to gainful employment programs. Had Congress intended for this exception to subvert the broader structure of the HEA in its narrow amendment in 2008, it surely would have amended those parts under Section 101 and Section 496, but it made no such changes to those sections. As such, this provision is best understood as a narrow, time-limited exception that reflected the Department's former practice of categorizing accrediting agencies between national and regional when it was passed, not a reintroduction of a “regional” class of accrediting agencies for all time going forward.

Further, in the Final Rule, the Department rejected the need for continued recognition of “regional” accrediting agencies and eliminated the previous regulatory distinction between “regional” and “national” accrediting agencies. Instead, proprietary institutions may continue to offer liberal arts programs so long as they meet the following criteria established in Section 102(b)(1)(A)(ii) of the HEA such as: if the program was offered prior to January 1, 2009, has continuously held accreditation by a recognized regional accrediting agency since October 1, 2007, and that accrediting agency was recognized as a regional accrediting agency by the Department as of October 1, 2007, and is also accredited by a nationally recognized accrediting agency recognized by the Department.

Indeed, whatever tension may exist between Section 101(a) (which provides for recognition by a nationally recognized accrediting agency) and the grandfather provision under Section 102(b)(1)(A) is clarified when viewed through interpretive principles of statutory interpretation.

The Whole-Text Canon provides that, when interpreting statutes, the entire text of a statute “in view of its structure and of the physical and local relation of its many parts” must be examined. A. Scalia & B. Garner, Reading Law: The Interpretation of Legal Texts, 167 (2012). The broader statute provides context, which is a primary determinant of meaning as a statute “typically contains many interrelated parts that make up the whole.” Scalia & Garner, supra, at 167; see also United Sav. Ass'n of Tex. v. Timbers of Inwood Forest Assocs., 484 U.S. 365, 371 (1988) (explaining that statutory interpretation is a “holistic endeavor” and that “[a] provision that may seem ambiguous in isolation is often clarified by the remainder of the statutory scheme” when “the same terminology is used elsewhere in a context that makes its meaning clear.”)

Here, Congress has created a general rule in Section 101 of the HEA for institutions, requiring all institutions to be accredited by a nationally recognized accrediting agency that is recognized by the Secretary. The exception in the definition in Section 102(b)(1)(A) is narrow in scope and temporally limited. It does not seek to displace or to alter the broader rule that institutions be nationally accredited but instead seeks to incorporate how the Department formerly recognized accrediting agencies. As the Final Rule demonstrates, this narrow grandfather provision does not resurrect the Department's former approach to recognition of accrediting agencies. Because the broader context of the statute requires institutions to be nationally recognized, the more appropriate reading is that Congress did not intend to displace that requirement in the narrow way it grandfathered in certain liberal arts programs in Section 102(b)(1)(A) of the HEA. As such, the Whole-Text Canon provides key contextual support for the finding that the HEA does not require the Department to continue to recognize accrediting agencies as “regional.” To the contrary, an institution must be recognized by a nationally recognized accrediting agency to meet the definition of “institution of higher education” in the HEA.

Some comments, in response to the Proposed Rule, argued that Section 496(a)(1) of the HEA requires the Department to recognize accrediting agencies as being “regional.” 84 FR 2704. Specifically, Section 496(a)(1) provides that “the accrediting agency or association shall be a State, regional, or national agency or association and shall demonstrate the ability and the experience to operate as an accrediting agency or association within the State, region, or nationally, as appropriate.” 20 U.S.C. 1099b(a)(1) (emphasis added). Latching on to those words, some commenters claimed that the explicit references to “region” in this provision meant that Congress intended for accrediting agencies to be recognized in different ways, as “national” or “regional.”

That is incorrect. Section 496(a)(1) means that a “regional. . . agency” can be designated as a “nationally recognized accrediting agency.” It does not mean—and in the statutory scheme cannot mean—that there is a whole new category of “regionally recognized accrediting agencies.” As the Final Rule explains, Section 101(a)(5) of the HEA provides that an institution must be accredited by a “nationally recognized accrediting agency” to be an institution of higher education. 20 U.S.C. 1001(a)(5). Furthermore, Section 101(c) requires the Department to publish, for the purposes of Sections 101 and 102 of the HEA, “a list of nationally recognized accrediting agencies or associations that the Secretary determines, pursuant to subpart 2 of part H of subchapter IV, to be reliable authority as to the quality of the education or training offered.” 20 U.S.C. 1001(c) (emphasis added). Under Section 101(a)(5), accreditation by a “nationally recognized accrediting agency” is what matters.

Section 496(a)(1) does not purport to insert an additional category of accrediting agencies into that plain text. The correct understanding of Section 496(a)(1) is that it authorizes the Secretary to recognize accrediting agencies with potentially narrow geographic scopes. But even where the accrediting agency has a narrower scope, it is a “nationally recognized accrediting agency” because the HEA requires it to be nationally recognized in order to perform title IV gatekeeping functions under Section 101 and Section 496(m) of the HEA. As such, Section 496(a)(1) is best read to clarify that an accrediting agency is not required to accredit institutions in all 50 States in order to be a “nationally recognized accrediting agency.” It does not require the Department to recognize accrediting agencies as “regional” or provide license for accrediting agencies and associations (and their member institutions) to continue to refer to themselves as such.

III. Institutional Practice

Based on the Department's interpretation, the Department strongly discourages an accrediting agency—regardless of whether its scope falls within a specific region or spans across the Nation—from referring to itself as “regional.” As discussed above, the label “regional accrediting agency” has no statutory or regulatory significance and has engendered confusion among students, institutions, and the public. To the extent an accrediting agency merely wants to convey that it operates in a particular region or group of States, there are other, less misleading ways to do so. For instance, it may describe the area where it performs specific accreditation activities as a “region.” An example of this as written could state that “[accrediting agency] is a nationally recognized accrediting agency with the vast majority of the institutions it recognizes located in the Southeast.” The agency could also explicitly claim that the Department has recognized it as a “nationally recognized accrediting agency” coupled with an affirmative statement that makes clear that the Department does not recognize “regional accrediting agencies.”

The Department is aware that some agencies do not offer accreditation in certain parts of the country or certain groups of States. The Department does not seek to recognize this as a distinguishing factor nor prohibit an accrediting agency from operating in the States it so chooses. The Department wishes to clarify that accrediting agencies should, in conjunction with defining their operating area, note that they are recognized solely by the Department as a “nationally recognized accrediting agency.”

The Department's desire to provide this clarification is a result of observed instances in which accrediting agencies and institutions continue to use non-recognized and confusing nomenclature that provide false signals of institutional quality.² The Department continues to be concerned that the use of outdated terminology is a false flag that signals that there is a significant difference in quality between institutions accredited by agencies considered to be a regional versus national. This distinction is inaccurate because the Department does not hold institutional accrediting agencies to different (or higher) standards. Indeed, as explained above, continued assertions that an institution is “regionally” accredited may send false signals to students and the public that an institution's accreditation is of a higher quality than institutions that are accredited by “national” accrediting agencies. Making matters worse, when institutions properly refer to their accreditation from as being from a nationally recognized accredited agency, while other institutions continue to use the “regional” nomenclature, it may send confusing signals to students or the public that the institution lost its accreditation from a “regional” accreditor or that it now has a lesser accreditation status. This leads to a situation where institutions may feel pressured, due to incorrect use of their nomenclature by peer institutions, to also use the improper nomenclature to avoid a situation where students incorrectly assume the institution is of lesser quality. This result runs counter to the intent and purpose of the Final Rule, which was to increase competition in the accreditation market. As such, the Department believes that this proposed interpretive rule will make the higher education market more competitive because institutions would have clarity that they should not try to gain a competitive advantage by perpetuating false quality distinctions relating to their accreditation in communications and marketing materials.

² There may be false signals of quality that result from when councils or associations term their member accrediting agencies as “regional.” For example, see the Council for Higher Education Accreditation which references regional accrediting commissions as “among the oldest accrediting organizations in the country”: https://www.chea.org/regional-accrediting-organizations-accreditor-type). The Department does not regulate or oversee the activities of trade associations and nothing in this interpretive rule should be interpreted as the Department claiming jurisdiction over such entities.

The continued reference to a “region” may also confuse or mislead students to believe that an institution outside of what they may define as a region—but accredited by a “regional” accreditor—is outside the accrediting agency's “region” and therefore is not eligible for title IV, HEA programs. This belief would be to the detriment of both students and institutions, limiting the institution from enrolling the student or limiting the scope of the student's decision to enroll at a particular institution. Additionally, educational institutions should have a general duty to not mislead students. If the Secretary determines that an eligible institution has engaged in substantial representation under 668.71(c), she may take a number of actions, including revoking the institution's program participation agreement, or denying participation applications made on behalf of the institution. 34 CFR 668.71(a).

They run the risk of doing just that when they tell current or prospective students that they are accredited by a “regional” accrediting agency. For the purposes of eligibility for the title IV programs, institutions must be accredited by an agency recognized by the Secretary as a nationally recognized accrediting agency. When institutions use incorrect nomenclature when describing their accreditation status, such as by a statement that they are “regionally accredited,” it may mislead current and prospective students to believe that the Department has recognized the accrediting agency in such manner. To avoid risk of misrepresenting their accreditation status to students, institutions should consider only referring to their accreditation status as being with a “nationally recognized accrediting agency.”

IV. Reliance

The Department is aware that accrediting agencies, associations, and the institutions and programs they accredit sometimes refer to accrediting agencies as “regional accrediting agencies.” The Department acknowledges that this interpretation may cause some institutions, programs, and accrediting agencies to change the way they refer to accreditation, and that such change may take time. Specifically, the Department is aware of some institutional credit transfer policies that improperly rely upon “regional” accreditation. But those policies should have been updated following the effective date of the final rule that formally ended such distinctions. The Department also acknowledges that some State laws still refer to “regional” accreditation, but as explained earlier, those State laws are obsolete to the degree that they refer to a regional accrediting agency recognized by the Secretary. The Department invites comments from the public specifically on what reliance interests it should consider when determining whether to finalize this interpretative rule.

Although this proposed interpretative rule is nonbinding on the Department and the public, the Department may refer to this interpretive rule when taking enforcement action.

V. Conclusion

This interpretation represents the Department's current position on these issues and may be referenced when reviewing the recognition of accrediting agencies, which may be relevant in reviewing the compliance of accrediting agencies during a period of recognition under 34 CFR 602.33(a). In addition, this interpretation represents the Department's current thinking regarding the application of the misrepresentation regulations under 34 CFR 668.71 to institutions with respect to how such institutions describe their accreditation. Through this notice, the Department advises institutions that it will assess compliance with this interpretation via program reviews, investigations, and other reviews authorized by applicable law.

Accessible Format: On request to the program contact listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

David Barker,
Assistant Secretary for Postsecondary Education.

[FR Doc. 2026-03074 Filed 2-13-26; 8:45 am]

BILLING CODE 4000-01-P